OFFICE OF THE UNITED STATES TRADE REPRESENTATIVE

Generalized System of Preferences (GSP); Initiation of a Review to Consider the Designation of Nigeria as a Beneficiary Developing Country Under the GSP; Solicitation of Public Comments Relating to the Designation Criteria.

AGENCY: Office of the United States Trade Representative.

ACTION: Notice and solicitation of public comment with respect to the eligibility of Nigeria for the GSP program.

SUMMARY: This notice announces the initiation of a review to consider the designation of Nigeria as a beneficiary developing country under the GSP program and solicits public comment relating to the designation criteria.

FOR FURTHER INFORMATION CONTACT: GSP Subcommittee, Office of the United States Trade Representative, 600 17th Street, N.W., Room 518, Washington, D.C. 20508. The telephone number is (202) 395-6971.

SUPPLEMENTARY INFORMATION: The government of Nigeria has requested that it be granted eligibility for beneficiary status under the GSP program. The Trade Policy Staff Committee (TSPC) has initiated a review to determine if Nigeria should be designated as a beneficiary developing country under the GSP program. A country may not be designated a beneficiary developing country, absent a finding that such designation would be in the economic interests of the United States, if any one of several elements are found, including: the country is a party to an arrangement of countries and participates in any action pursuant to such arrangement, the effect of which is to withhold supplies of vital commodity resources from international trade or to raise the price of such commodities to an unreasonable level, and to cause serious disruption of the world economy; the provision by the country of preferential treatment to products of other developed countries which has a significant adverse effect on U.S. commerce; the expropriation by the country of U.S.-owned property without compensation; a failure by the country to enforce arbitral awards in favor of U.S. persons; the support by the country of international terrorism; or a failure by the country to take steps to protect internationally recognized worker rights. Other factors taken into account in determining whether a country will be designated a beneficiary developing country include: the extent to which the country has assured the United States that it will provide market access for U.S. goods; the extent to which the country has taken action to reduce trade-distorting investment practices and policies; and the extent to which the country is providing adequate and effective protection of intellectual property rights. The criteria for designation are set forth in full in section 502 of the Trade Act of 1974, as amended (19 U.S.C. 2461 et seq.).

Interested parties are invited to submit comments regarding the eligibility of Nigeria for designation as a GSP beneficiary developing country. Submission of comments must be made in English in 14 copies to the Chairman of the GSP Subcommittee, Trade Policy Staff Committee, and be received in Room 518 at 600 17th Street, N.W., Washington, D.C. 20508, no later than 5 p.m. on Monday, July 10th. Except for submission granted “business confidential” status pursuant to 15 CFR 2003.6, information and comments submitted regarding Nigeria will be subject to public inspection by appointment with the staff of the USTR Public Reading Room. For an appointment, please call Ms. Brenda Webb at 202/395-6186. If the document contains business confidential information, 14 copies of a nonconfidential version of the submission along with 14 copies of the confidential version must be submitted. In addition, the submission should be clearly marked “confidential” at the top and bottom of each page of the document. The version which does not contain business confidential information (the public version) should also be clearly marked at the top and bottom of each page (either “public version” or “non-confidential”).

H.J. Rosenbaum,
Assistant U.S. Trade Representative.

[FR Doc. 00-11071 Filed 5-3-00; 8:45 am]

BILLING CODE 3190-01-M